DEPARTMENT OF TRANSPORTATION

National Highway Traffic Safety Administration

[Docket No. NHTSA-2004-19257; Notice 2]

The Spares Company, Denial of Petition for Decision of Inconsequential Noncompliance

The Spares Company (Spares), has determined that air brake hose assemblies it manufactured from 2000 to 2004 do not comply with S7.2.3 of 49 CFR 571.106, Federal Motor Vehicle Safety Standard (FMVSS) No. 106, “Brake Hoses.” Pursuant to 49 U.S.C. 30118(d) and 30120(h), Spares has petitioned for a determination that this noncompliance is inconsequential to motor vehicle safety and has filed an appropriate report pursuant to 49 CFR part 573, “Defect and Noncompliance Reports.” Notice of receipt of the petition was published, with a 30 day comment period, on October 8, 2004 in the Federal Register (69 FR 60460). NHTSA received two comments.

A total of approximately 17,000 aftermarket air brake hose assemblies produced between November 2000 and June 2004 are affected. S7.2.3 of FMVSS No. 106 requires that “each air brake hose assembly made with end fittings that are attached by crimping or swaging * * * shall be labeled by means of a band around the brake hose assembly * * * [with the DOT symbol and the name of the manufacturer] or, at the option of the manufacturer, by means of labeling [of at least one end fitting which is etched, stamped or embossed with a designation that identifies the manufacturer].” The affected brake hoses do not have the manufacturer's label or a designation of the manufacturer as required by S7.2.3.

Spares manufactured these brake hose assemblies from its incorporation date in November 2000 until June 2004, when production was stopped because Spares discovered the noncompliance.

Spares believes that the noncompliance is inconsequential to motor vehicle safety and that no corrective action is warranted. Spares explains that the units are assembled by Spares using Goodyear-labeled hoses and RB Royal-labeled fittings. Spares states that the “brake hose assemblies meet all functional performance requirements of the standard for the hose, the fittings, and the assembly and therefore will perform exactly as intended.”

Spares further states that there have been no complaints from any distributor or consumer concerning the functioning of the brake hose assemblies. Spares has begun notifying all of its distributors of the labeling defect and will provide a band for each noncomplying hose currently remaining in the distributors' possession. Also, Spares has corrected the problem.

The agency received two public comments. One was received from an individual who stated he has many years of experience in brake systems and components for air braked vehicles. He agreed with Spares' assertion that the lack of a labeling band is inconsequential to safety as long as all performance requirements of FMVSS No. 106 are met. The comment said in part:

Spares appears to be doing the right thing in supplying labeling bands to their distributor for application onto existing inventory. It would be very difficult, if not impossible, to notify vehicle owners about hoses sold in the aftermarket * * *.

However, the fact that it may be difficult to notify vehicle owners does not lessen the consequence of the noncompliance to motor vehicle safety and therefore is not persuasive.

A second comment was from a private individual who supported not granting the petition. However, this commenter did not address the issue to be considered in determining whether to grant this petition, that is, is the effect of the noncompliance on motor vehicle safety. Therefore, this comment also was considered not to be persuasive.

This matter presents an unusual and unique notification issue. The air brake hose assemblies are not labelled to designate the manufacturer. NHTSA has reviewed the petition and has determined that the noncompliance is not inconsequential to motor vehicle safety. All brake hose assembly manufacturers are required to label their assemblies by either a band around the brake hose or by marking the end fitting with a designation that identifies the assembly manufacturer. This label is critical, since in cases where the assembly has a defect or a noncompliance the label would be the only way to identify and track the affected assemblies. Thus, the agency maintains a manufacturer identification database to ensure that each manufacturer has a unique identifier, so that in the event of a defect or noncompliance the manufacturer can be easily identified and consumers will be able to easily identify a product that may be the subject of a recall.

In consideration of the foregoing, NHTSA has decided that the petitioner has not met its burden of persuasion that the noncompliance described is inconsequential to motor vehicle safety. Accordingly, Spares' petition is hereby denied.

Authority: 49 U.S.C. 30118, 30120; delegations of authority at CFR 1.50 and 501.8.

Issued on: January 10, 2005.
Claude H. Harris,
Director, Office of Vehicle Safety Compliance.

[FR Doc. 05-860 Filed 1-13-05; 8:45 am]

BILLING CODE 4910-59-P